SOCIAL SECURITY ADMINISTRATION

[Docket No. SSA 2008-0046]

Privacy Act of 1974, as Amended; Computer Matching Program; (SSA/Centers for Medicare and Medicaid (CMS) Match Number 1076)

AGENCY: Social Security Administration (SSA).

ACTION: Notice of the renewal of an existing computer matching program which is scheduled to expire on October 15, 2008.

SUMMARY: In accordance with the provisions of the Privacy Act, as amended, this notice announces the renewal of an existing computer matching program that SSA is currently conducting with CMS.

DATES: SSA will file a report of the subject matching program with the Committee on Homeland Security and Governmental Affairs of the Senate; the Committee on Oversight and Government Reform of the House of Representatives; and the Office of Information and Regulatory Affairs, Office of Management and Budget (OMB). The renewal of the matching program will be effective as indicated below.

ADDRESSES: Interested parties may comment on this notice by either telefax to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving the Federal government could be performed and adding certain protections for individuals applying for, and receiving, Federal benefits. Section 7201 of the Omnibus Budget Reconciliation Act of 1990 (Pub. L. 101-508) further amended the Privacy Act regarding protections for such individuals.

The Privacy Act, as amended, regulates the use of computer matching by Federal agencies when records in a system of records are matched with other Federal, State or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: August 27, 2008.
Mary Glenn-Croft,
Deputy Commissioner for Budget, Finance and Management.

Notice of Computer Matching Program, Social Security Administration (SSA) With the Centers for Medicare and Medicaid (CMS)

A. Participating Agencies

SSA and CMS.

B. Purpose of the Matching Program

The purpose of this agreement is to establish the conditions, terms and safeguards under which CMS agrees to the ongoing disclosure of certain skilled nursing facility admission data by CMS to SSA. CMS will disclose the data through a computer matching operation for SSA's use in identifying Supplemental Security Income (SSI) recipients who did not report their admission to a facility as required under applicable provisions of the Social Security Act (the Act). Such admission would subject the amount of SSI which an individual could receive for any month throughout which the individual is in such a facility to a reduced benefit rate. The SSI program provides payments to aged, blind and disabled recipients with income and resources below levels established by law and regulations.

SSA will use other benefit information for the Title VIII, Special Veterans' Benefits (SVB) determinations of entitlement and benefit amount. Other benefit information is defined as any recurring payment received as an annuity, pension, retirement or disability benefit. The match will be used to identify those SVB beneficiaries who are no longer residing outside the United States.

C. Authority for Conducting the Matching Program

This Matching Agreement between SSA and CMS is executed pursuant to the Privacy Act of 1974 (5 U.S.C. 552a), as amended (Pub. L. 100-503, the Computer Matching and Privacy Protection Act (CMPPA) of 1988), the Office of Management and Budget (OMB) Circular A-130, titled “Management of Federal Information Resources” at 61 FR 6428-6435 (February 20, 1996), and OMB guidelines pertaining to computer matching at 54 FR 25818 (June 19, 1989).

Legal authority for the SSI portion of the matching program described above is contained in sections 1611(e)(1)(A) and (B) and 1631(f) of the Act (42 U.S.C. 1382(e)(1)(A) and (B) and 1383(f)); see also 20 CFR 416.211.

Legal authority for the SVB portion of the matching program is contained in sections 801 and 806(a) and (b) of the Act (42 U.S.C. 1001 and 1006(a) and (b)).

D. Categories of Records and Individuals Covered by the Matching Program

SSA will provide CMS with a finder file on a monthly basis extracted from SSA's Supplemental Security Income Record and Special Veterans Benefits (SSR/SVB), SSA/ODSSIS 60-0103, with identifying information with respect to recipients of SSI benefits. CMS will match the SSA finder file against the system of records for individuals on the Long-Term Care Minimum Data Set (LTC/MDS 09-70-1517), and submit their reply file to SSA no later than 21 days after receipt of the SSA finder file. The Title VIII benefit information is included in the SSI system of records and is paid using SSA's SSI automated system. The indicator identifying Title VIII claims resides on the SSR, SSA/ODSSIS 60-0103, though it is not an SSI payment. Routine Use Number 19, effective January 11, 2006, allows disclosure to Federal, State or local agencies for administering cash or non-cash income maintenance or health maintenance programs.

The Finder File that SSA will furnish to CMS will contain approximately 6½ million records of recipients of SSI and SVB. CMS's Reply File will contain the matched records. Each matched record will include a certain number of relevant MDS CMS appended records. CMS will provide SSA with the Provider of Service Information on the facilities involved in the match (e.g., provider name, address, telephone number, date of admission, date of discharge, projected length of stay, and payment source). The number of records for individuals returned to SSA will approximate 25,000 monthly.

SSA will provide the Finder File to CMS as often as monthly. CMS will submit its Reply File to SSA no later than 21 days after receipt of the SSA Finder File.

This matching program employs systems which contain Protected Health Information (PHI) as defined by HHS regulation “Standards for Privacy of Individually Identifiable Health Information” (45 CFR 160 and 164, Subparts A and E) (65 FR 82462 (Dec. 28, 2000)). Disclosures of PHI authorized by these routine uses may only be made if, and as permitted, or required by the “Standard for Privacy of Individually Identifiable Health Information”.

E. Inclusive Dates of the Matching Program

The matching program will become effective no sooner than 40 days after notice of the matching program is sent to Congress and the Office of Management and Budget, or 30 days after publication of this notice in the Federal Register, whichever date is later. The matching program will continue for 18 months from the effective date and may be extended for an additional 12 months thereafter, if certain conditions are met.

[FR Doc. E8-21632 Filed 9-16-08; 8:45 am]

BILLING CODE 4191-02-P